FEDERAL COMMUNICATIONS COMMISSION

47 CFR Part 73

[MB Docket No. 13-250, RM-11705, DA 14-600]

Radio Broadcasting Services; Tohatchi, New Mexico

AGENCY: Federal Communications Commission.

ACTION: Final rule.

SUMMARY: At the request of The Navajo Nation, the Audio Division amends the FM Table of Allotments, by allotting Channel 268C2 at Tohatchi, New Mexico, as a first local Tribal Allotment and a first local service to the community. A staff engineering analysis confirms that Channel 268C2 can be allotted to Tohatchi consistent with the minimum distance separation requirements of the Commission's Rules with no imposition of a site restriction at reference coordinates 35-54-37 NL and 108-46-26 WL.

DATES: Effective June 16, 2014.

ADDRESSES: You may submit comments, identified by MB Docket No. 13-250, by any of the following methods:

• Federal Communications Commission's Web site: http://fjallfoss.fcc.gov/ecfs2/. Follow the instructions for submitting comments.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Rolanda F. Smith, Media Bureau, (202) 418-2700.

SUPPLEMENTARY INFORMATION: This is a synopsis of the Commission's Report and Order, MB Docket No. 13-250, adopted May 1, 2014, and released May 2, 2014. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended].

2. Section 73.202(b), the Table of FM Allotments under New Mexico, is amended by adding Tohatchi, Channel 268C2.

[FR Doc. 2014-11116 Filed 5-13-14; 8:45 am]

BILLING CODE 6712-01-P